NATIONAL SCIENCE FOUNDATION

Agency Information Collection Activities; Extension of Current Information Collection

AGENCY: National Center for Science and Engineering Statistics, National Science Foundation.

ACTION: Submission for OMB review; comment request.

SUMMARY: The National Science Foundation (NSF) has submitted the following information collection requirement to OMB for review and clearance under the Paperwork Reduction Act of 1995. This is the second notice for public comment; the first was published in the Federal Register at 82 FR 20921 and one comment was received. NSF/NCSES is forwarding the proposed renewal submission to the Office of Management and Budget (OMB) for clearance simultaneously with the publication of this second notice. The full submission may be found at: http://www.reginfo.gov/public/do/PRAMain.

ADDRESSES: Comments should be addressed to: Office of Information and Regulatory Affairs of OMB, Attention: Desk Officer for National Science Foundation, 725 7th Street NW., Room 10235, Washington, DC 20503.

FOR FURTHER INFORMATION CONTACT: Suzanne H. Plimpton, Reports Clearance Officer, National Science Foundation, 2415 Eisenhower Avenue, Room W18000, Alexandria, Virginia 22314, or send email to splimpto@nsf.gov. Copies of the submission may be obtained by calling Ms. Plimpton at (703) 292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

As required by 5 CFR 1320.8(d), comments on the information collection activities as part of this study were solicited through publication of a 60-Day Notice in the Federal Register on May 4, 2017, at 82 FR 20921. One comment came from Andrew Reamer, Research Professor in the George Washington Institute of Public Policy at George Washington University via email on May 4, 2017, who requested a copy of the questionnaire and the OMB supporting statement.

Response: The questionnaire was provided to Mr. Reamer on August 18, 2017, and the supporting statement will be provided upon submission to OMB.

Title of Collection: Nonprofit Research Activities Survey.

OMB Approval Number: 3145-0240.

Expiration Date of Current Approval: July 31, 2019.

Type of Request: Revision of a currently approved collection.

Abstract: Established within NSF by the America COMPETES Reauthorization Act of 2010 § 505, codified in the National Science Foundation Act of 1950, as amended, the National Center for Science and Engineering Statistics (NCSES) serves as a central Federal clearinghouse for the collection, interpretation, analysis, and dissemination of objective data on science, engineering, technology, and research and development for use by practitioners, researchers, policymakers, and the public.

The primary objective of the new survey is to fill data gaps in the NCSES publication National Patterns of R&D Resources in such a way that it is (a) compatible with data collected on the business, government, and higher education sectors of the U.S. economy and (b) appropriate for international comparisons. Since the last survey of research activity in the nonprofit sector occurred in 1996 and 1997, interest from the community has grown significantly in recent years. Thus, it is important that a full survey be fielded again to update current national estimates for the nonprofit sector.

NCSES recently concluded a pilot test of the Nonprofit Research Activities Survey (NPRA) with 3,640 nonprofit organizations. Using the lessons learned from the pilot, NCSES now plans to conduct a full survey. The full NPRA survey will collect R&D and other related data from U.S. nonprofit organizations. This survey will collect the following:

• Total amount spent on R&D activities within nonprofit organizations;

• Number of employees and R&D employees;

• Sources of funds for R&D expenditures;

• Expenditures by field of R&D (biological and health sciences, engineering, physical sciences, social sciences, etc.);

• Expenditures by type of R&D (basic research, applied research, or experimental development);

• Total amount of R&D funding provided to entities outside the nonprofit organization;

• Types of recipients receiving R&D funding; and

• Funding by field of R&D (biological and health sciences, engineering, physical sciences, social sciences, etc.).

Use of the information: The primary purpose of this survey is to collect nationally representative data on nonprofit research spending and funding. The nonprofit sector is one of four major sectors that perform and/or fund research and development (R&D) in the U.S. Historically, the National Science Foundation (NSF) has combined this sector's data with the business, government, and higher education sectors' data to estimate total national R&D expenditures via the annual National Patterns of R&D Resources report. These data will help federal agencies develop longrange plans and policies for R&D funding opportunities and the nonprofit sector as a whole. We also expect the Organization for Economic Cooperation and Development (OECD) will request that NSF provide NPRA Survey data for use in its periodic publications and for international comparisons of R&D efforts. The data will be made available in public data tables as well as public use microdata files.

Expected respondents: The sample will be approximately 6,500 nonprofit organizations. The target population for the NPRA Survey includes all NPOs categorized by the Internal Revenue Service (IRS) as 501(c)(3) public charities, 501(c)(3) private foundations, and other exempt organizations [e.g., 501(c)(1), 501(c)(2)]. To increase the efficiency of sampling organizations that perform or fund research—and to reduce burden among organizations that do not perform or fund research—organizations that are highly unlikely to be conducting research activities or already included in the other NCSES R&D surveys will be removed from the frame. In addition, organizations that do not meet a minimum size threshold, based on assets for private foundations and expenses for public charities, will be excluded from the frame. The sample will be allocated to obtain a minimum of 1,600 completed surveys from R&D active organizations (800 from performers and 800 from funders).

Estimate of burden: The survey will include approximately 6,500 organizations and will be conducted in two phases. Phase 1 will be a screening phase for all organizations in the sample that have not been identified as research performers or funders (approximately 4,100 organizations). This will include a postage paid response card to be completed by the organization, with an estimated burden of 10 minutes. NCSES estimates a 70% response rate for this screening phase, yielding a burden of 478 hours.

Phase 2 of the survey will be the questionnaire, which will be sent to (a) all of the known research performers and funders, (b) those screened in from Phase 1, and (c) those who did not respond to the Phase 1 contacts. NCSES expects a response rate of 60% to Phase 2. Based on the responses to the pilot survey, if the organization both funds and performs research, it will take an estimated 4 hours to complete the survey. If the organization neither funds nor performs research, the response time should be less than 20 minutes. There will also be 40 debriefings held as the surveys are submitted, 20 for respondents and 20 for nonrespondents. The debriefings are estimated to take 1 hour for respondents and 30 minutes for nonrespondents, resulting in a total burden of 30 hours. The estimate of burden for Phase 2 of the survey is 4,888 hours for the 1,222 estimated performers and funders that complete the survey and debriefings and 317 hours for the remaining 951 organizations estimated to complete the survey that do not perform or fund research. The total combined burden for Phases 1 and 2 is 5,713 hours.

Dated: November 29, 2017.
Suzanne H. Plimpton,
Reports Clearance Officer, National Science Foundation.

[FR Doc. 2017-26028 Filed 12-1-17; 8:45 am]

BILLING CODE 7555-01-P